ENVIRONMENTAL PROTECTION AGENCY

[FRL-8454-5]

Environmental Laboratory Advisory Board (ELAB) Meeting Dates, and Agenda

AGENCY: Environmental Protection Agency (EPA).

ACTION: Notice of Teleconference Meetings.

SUMMARY: The Environmental Protection Agency's Environmental Laboratory Advisory Board (ELAB), as previously announced, will have teleconference meetings on August 15, 2007 at 1 p.m. ET; September 19, 2007 at 1 p.m. ET; October 17, 2007 at 1 p.m. ET; November 21, 2007 at 1 p.m. ET; and December 19, 2007 at 1 p.m. ET to discuss the ideas and views presented at the previous ELAB meetings, as well as new business. Items to be discussed by ELAB over these coming meetings include: (1) Expanding the number of laboratories seeking National Environmental Laboratory Accreditation Conference (NELAC) accreditation; (2) homeland security issues affecting the laboratory community; (3) ELAB support to the Agency's Forum on Environmental Measurements (FEM); (4) implementing the performance approach; and (5) follow-up on some of ELAB's past recommendations and issues. In addition to these teleconferences, ELAB will be hosting their next face-to-face meeting on August 22, 2007 at the Hyatt Regency Cambridge in Cambridge, MA at 10 a.m. (ET). An Open Forum for the public to bring issues forward to ELAB for their consideration to address as part of their work will be held on Tuesday, August 21, 2007 from 5:30 p.m.-6:30 p.m. at the Hyatt Regency Cambridge in Cambridge, MA.

Written comments on laboratory accreditation issues and/or environmental monitoring issues are encouraged and should be sent to Ms. Lara P. Autry, DFO, U.S. EPA (E243-05), 109 T. W. Alexander Drive, Research Triangle Park, NC 27709, faxed to (919) 541-4261, or e-mailed to autry.lara@epa.gov. Members of the public are invited to listen to the teleconference calls, and time permitting, will be allowed to comment on issues discussed during this and previous ELAB meetings. Those persons interested in attending should call Lara P. Autry at (919) 541-5544 to obtain teleconference information. The number of lines for the teleconferences, however, are limited and will be distributed on a first come, first serve basis. Preference will be given to a group wishing to attend over a request from an individual. For information on access or services for individuals with disabilities, please contact Lara P. Autry at the number above. To request accommodation of a disability, please contact Lara P. Autry, preferably at least 10 days prior to the meeting, to give EPA as much time as possible to process your request.

George M. Gray,
Assistant Administrator, Office of Research and Development.

[FR Doc. E7-15975 Filed 8-13-07; 8:45 am]

BILLING CODE 6560-50-P